DEPARTMENT OF ENERGY

Federal Energy Regulatory Commission

[Docket No. ER04-812-001, et al.]

Duke Energy Corporation, et al.; Electric Rate and Corporate Filings

July 20, 2004.

The following filings have been made with the Commission. The filings are listed in ascending order within each docket classification.

1. Duke Energy Corporation

[Docket No. ER04-812-001]

Take notice that, on July 16, 2004, Duke Energy Corporation, on behalf of Duke Electric Transmission (collectively, Duke) submitted a compliance filing pursuant to the Commission's Letter Order issued July 2, 2004, in Docket No. ER04-812-000. Duke states that the compliance filing adds Tables of Contents to the Large Generator Interconnection Procedures and the Large Generator Interconnection Agreement in the Duke open access tariff, to be made effective April 26, 2004.

Duke states that copies of the filing were served on parties on the official service list in the above-captioned proceeding.

Comment Date: 5 p.m. eastern time on August 6, 2004.

2. Ohmus Energy Company, LLC

[Docket No. ER04-848-001]

Take notice that on July 14, 2004, the Ohmus Energy Company, LLC, pursuant to the Commission's deficiency letter issued July 1, 2004, submitted an Amendment to its May 17, 2004, filing in Docket No. ER04-848-000.

Comment Date: 5 p.m. eastern time on August 4, 2004.

3. PJS Capital, LLC

[Docket No. ER04-896-001]

Take note that on July 15, 2004, PJS Capital, LLC (PJS Capital), pursuant to the Commission's deficiency letter issued July 1, 2004, filed an amendment to its May 25, 2004, filing in Docket No. ER04-896-000.

Comment Date: 5 p.m. eastern time on August 5, 2004.

4. PJM Interconnection, L.L.C.

[Docket No. ER04-988-001]

Take notice that on July 16, 2004, PJM Interconnection, L.L.C. (PJM), submitted for filing a substitute interconnection service agreement (ISA) among PJM, PPL Distributed Generation, LLC, and Public Service Electric and Gas Company designated as Substitute Original Service Agreement No. 1046 under PJM Interconnection FERC Electric Tariff Sixth Revised Volume No. 1. PJM requests an effective date of June 4, 2004.

PJM states that copies of this filing were served upon the parties to the agreement and the state regulatory commissions within the PJM region.

Comment Date: 5 p.m. eastern time on August 6, 2004.

5. Virginia Electric and Power Company

[Docket No. ER04-1021-000]

Take notice that on July 15, 2004, Virginia Electric and Power Company (Dominion Virginia Power) submitted Tenth Revised Service Agreement Nos. 253 and 49 under Virginia Electric and Power FERC Electric Tariff, Second Revised Volume No. 5, unexecuted service agreements with Sempra Energy Trading Corp. Dominion Virginia Power requests an effective date of June 15, 2004.

Dominion Virginia Power states that copies of the filing were served upon Sempra Energy Trading Corp., the Virginia State Corporation Commission, and the North Carolina Utilities Commission.

Comment Date: 5 p.m. eastern time on August 5, 2004.

6. Choice Energy Services, L.P.

[Docket No. ER04-1022-000]

Take notice that on July 15, 2004, Choice Energy Services, L.P. (Choice) submitted a Petition for Acceptance of Choice Rate Schedule FERC No. 1; the granting of certain blanket approvals, including the authority to sell electricity at market-based rates; and the waiver of certain Commission regulations. Choice states that it intends to engage in wholesale electric power and energy purchases and sales as a marketer. Choice also states that it is not in the business of generating or transmitting electric power.

Comment Date: 5 p.m. eastern time on August 5, 2004.

7. Virginia Electric and Power Company

[Docket No. ER04-1023-000]

Take notice that on July 15, 2004, Virginia Electric and Power Company (Dominion Virginia Power) tendered for filing First Revised Service Agreement Nos. 379 and 380 under Virginia Electric and Power Company FERC Electric Tariff, Second Revised Volume No. 5, unexecuted service agreements with Igenco Wholesale Power LLC. Dominion Virginia Power requests an effective date June 15, 2004.

Dominion Virginia Power states that copies of the filing were served upon Ingenco Wholesale Power LLC, the Virginia State Corporation Commission, and the North Carolina Utilities Commission.

Comment Date: 5 p.m. eastern time on August 5, 2004.

8. New York Independent System Operator, Inc.

[Docket No. ER04-1024-000]

Take notice that on July 15, 2004, the New York Independent System Operator, Inc. (NYISO) filed proposed revisions to the Independent System Operator Agreement. NYISO states that the proposed revisions would amend the Independent System Operator Agreement to allow Demand reduction providers and Distributed Generators to be added as voting members in stakeholder governance.

NYISO states that it has served a copy of the filing to all parties that have executed Service Agreements under the NYISO's OATT or Services Tariff, the New York State Public Services Commission and to the electric utility regulatory agencies in New Jersey and Pennsylvania.

Comment Date: 5 p.m. eastern time on August 5, 2004.

9. PJM Interconnection, L.L.C.

[Docket No. ER04-1025-000]

Take notice that on July 16, 2004, PJM Interconnection, L.L.C. (PJM), submitted for filing Original Service Agreement No. 1048, under PJM's FERC Electric Tariff Sixth Revised Volume No. 1, an executed interconnection service agreement (ISA) among PJM, Handsome Lake Energy, L.L.C., and Pennsylvania Electric Company, a FirstEnergy Company. PJM requests an effective date of June 16, 2004.

PJM states that copies of this filing were served upon the parties to the agreement and the state regulatory commissions within the PJM region.

Comment Date: 5 p.m. eastern time on August 6, 2004.

10. Ohio Valley Electric Corporation Indiana-Kentucky Electric Corporation

[Docket No. ER04-1026-000]

Take notice that on July 16, 2004, Ohio Valley Electric Corporation, (OVEC) and its wholly owned subsidiary, Indiana-Kentucky Electric Corporation (IKEC) submitted for filing an Amended and Restated Inter-Company Power Agreement among OVEC and certain other companies named within that agreement as “Sponsoring Companies”; and OVEC's First Revised Rate Schedule NO. 1, an Amended and Restated Power Agreement between OVEC and IKEC (the Amended Agreements). OVEC also tendered for filing a Termination Agreement relating to the First Supplementary Transmission Agreement among OVEC and the Sponsoring Companies (Supplementary Transmission Agreement). OVEC requests an effective date of March 13, 2006.

OVEC states that copies of the filing were served upon Allegheny Energy Supply Company, LLC, Appalachian Power Company, the Cincinnati Gas & Electric Company, Columbus Southern Power Company, the Dayton Power and Light Company, FirstEnergy Generation Corp., Indiana Michigan Power Company, Kentucky Utilities Company, Louisville Gas and Electric Company, Monongahela Power Company, Ohio Power Company, Southern Indiana Gas and Electric Company, the Utility Regulatory Commission of Indiana, the Public Service Commission of Kentucky, the Public Service Commission of Maryland, the Public Service Commission of Michigan, the Public Utilities Commission of Ohio, the Public Utility Commission of Pennsylvania, Tennessee Regulatory Authority, the State Corporation Commission of Virginia and the Public Service Commission of West Virginia.

Comment Date: 5 p.m. eastern time on August 6, 2004.

11. Rocky Mountain Power, Inc.

[Docket No. ER04-1027-000]

Take notice that on July 16, 2004, Rocky Mountain Power, Inc. (RMP) submitted a request for approval of Rocky Mountain Power Inc. FERC Electric Tariff, Original Volume No. 1; the grant of certain blanket approvals including the authority to sell electricity at market-based rates; and the waiver of certain Commission regulations.

RMP requests that the rate schedule become effective 60 days after the filing date.

Comment Date: 5 p.m. eastern time on August 6, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on August 6, 2004.

Magalie R. Salas,
Secretary.

[FR Doc. E4-1647 Filed 7-23-04; 8:45 am]

BILLING CODE 6717-01-P